GENERAL SERVICES ADMINISTRATION

[Notice-WWI-2013-02; Docket No. 2013-0007; Sequence 2]

World War One Centennial Commission; Notification of Upcoming Public Advisory Meeting

AGENCY: World War One Centennial Commission.

ACTION: Meeting notice.

SUMMARY: Notice of this meeting is being provided according to the requirements of the Federal Advisory Committee Act, 5 U.S.C. App. 10(a)(2). This notice provides the schedule and agenda for the November 15, 2013, meeting of the World War One Centennial Commission (the Commission). The meeting is open to the public and the site is accessible to individuals with disabilities.

DATES: Meeting date: The meeting will be held on Friday, November 15, 2013 starting at 9:30 a.m. Eastern Standard Time (EST), and ending no later than 5:30 p.m. The meeting will be in open session from 9:30 a.m. until 12:00 p.m. The afternoon session will address administrative issues and will not be open to the public.

FOR FURTHER INFORMATION CONTACT: Daniel S. Dayton, Designated Federal Officer, c/o The Foundation for the Commemoration of the World Wars, 701 Pennsylvania Avenue NW., #123, Washington, DC 20004-2608 202-380-0725 (note: this is not a toll-free number).

Contact Daniel S. Dayton at 202-380-0725 to register to comment during the meeting's 30 minute public comment period. Registered speakers/organizations will be allowed 5 minutes and will need to provide written copies of their presentations. Requests to comment at the meeting must be received by 5:00 p.m. Eastern Standard Time (EST), November 12, 2013. Written comments may be provided to Mr. Dayton at daniel.dayton@dhs.gov until November 12, 2013. Please contact Mr. Dayton at the email address above to obtain meeting materials.

SUPPLEMENTARY INFORMATION:

Background

The World War One Centennial Commission was established by Public Law 112-272, as a commission to ensure a suitable observance of the centennial of World War I, to provide for the designation of memorials to the service of members of the United States Armed Forces in World War I, and for other purposes. Under this authority, the Committee will plan, develop, and execute programs, projects, and activities to commemorate the centennial of World War I, encourage private organizations and State and local governments to organize and participate in activities commemorating the centennial of World War I, facility and coordinate activities throughout the United States relating to the centennial of World War I, serve as a clearinghouse for the collection and dissemination of information about events and plans for the centennial of World War I, and develop recommendations for Congress and the President for commemorating the centennial of World War I.

Agenda: Friday November 15, 2013.

• Introductions and plans for today's meeting—DFO

• Committee Reports

• Old Business

• New Business

• 30 minute public comment period for individuals pre-registered per instructions above. Each individual will be able to speak for no more than 5 minutes.

• Closing comments

Meeting Access: The Committee will convene its meeting at: The Law offices of Jones-Day, 51 Louisiana Avenue NW., Washington, DC, 20001-2113. Persons attending this meeting are requested to refrain from using perfume, cologne, and other fragrances (see http://www.access-board.gov/about/policies/fragrance.htm for more information).

Dated: October 18, 2013.
Daniel S. Dayton,
Designated Federal Official, World War I Centennial Commission.

[FR Doc. 2013-25434 Filed 10-28-13; 8:45 am]

BILLING CODE 6820-95-P